DEPARTMENT OF ENERGY

Federal Energy Regulatory Commission

Combined Notice of Filings

January 27, 2009.

Take notice that the Commission has received the following Natural Gas Pipeline Rate and Refund Report filings:

Docket Numbers: RP01-377-015.

Applicants: Northern Border Pipeline Company.

Description: Northern Border Pipeline Company submits Twenty-First Revised Sheet 99A to FERC Gas Tariff, First Revised Volume 1.

Filed Date: 01/06/2009.

Accession Number: 20090108-0104.

Comment Date: 5 p.m. Eastern Time on Friday, January 30, 2009.

Docket Numbers: RP09-234-000.

Applicants: Black Marlin Pipeline Company.

Description: Petition of Black Marlin Pipeline Company for Extension of Temporary Exemptions from Tariff Provisions.

Filed Date: 01/22/2009.

Accession Number: 20090122-5161.

Comment Date: 5 p.m. Eastern Time on Tuesday, February 3, 2009.

Docket Numbers: RP09-235-000.

Applicants: Trailblazer Pipeline Company LLC.

Description: Trailblazer Pipeline Company LLC submits report on the refund of penalty revenues.

Filed Date: 01/22/2009.

Accession Number: 20090123-0333.

Comment Date: 5 p.m. Eastern Time on Tuesday, February 3, 2009.

Docket Numbers: RP09-236-000.

Applicants: Trailblazer Pipeline Company LLC.

Description: Trailblazer Pipeline Company LLC submits First Revised Sheet 175 et al. to FERC Gas Tariff, Fourth Revised Volume 1, to be effective 2/22/09.

Filed Date: 01/22/2009.

Accession Number: 20090123-0332.

Comment Date: 5 p.m. Eastern Time on Tuesday, February 3, 2009.

Docket Numbers: RP09-237-000.

Applicants: Pine Prairie Energy Center, LLC.

Description: Pine Prairie Energy Center, LLC submits First Revised Sheet 114 et al. to FERC Gas Tariff, Original Volume 1.

Filed Date: 01/21/2009.

Accession Number: 20090123-0331.

Comment Date: 5 p.m. Eastern Time on Monday, February 2, 2009.

Docket Numbers: RP09-238-000.

Applicants: NGO Transmission, Inc.

Description: NGO Transmission, Inc. submits First Revised Sheet 92 et al. to FERC Gas Tariff, Original Volume 1, to be effective 3/1/09.

Filed Date: 01/22/2009.

Accession Number: 20090123-0330.

Comment Date: 5 p.m. Eastern Time on Tuesday, February 3, 2009.

Docket Numbers: RP09-239-000.

Applicants: Pine Needle LNG Company, LLC.

Description: Pine Needle LNG Company, LLC submits Second Revised Sheet 11 et al. to FERC Gas Tariff, Original Volume 1.

Filed Date: 01/22/2009.

Accession Number: 20090123-0329.

Comment Date: 5 p.m. Eastern Time on Tuesday, February 3, 2009.

Docket Numbers: RP09-240-000.

Applicants: Natural Gas Pipeline Company of America.

Description: Natural Gas Pipeline Company of America LLC submits First Revised Sheet 406 et al. to its FERC Gas Tariff, Seventh Revised Volume 1, to be effective 2/22/09.

Filed Date: 01/22/2009.

Accession Number: 20090123-0328.

Comment Date: 5 p.m. Eastern Time on Tuesday, February 3, 2009.

Docket Numbers: RP09-241-000.

Applicants: Panther Interstate Pipeline Energy, LLC.

Description: Panther Interstate Pipeline Energy, LLC submits First Revised Sheet 42 et al. to FERC Gas Tariff, Original Volume 1, to be effective 2/21/09.

Filed Date: 01/22/2009.

Accession Number: 20090123-0327.

Comment Date: 5 p.m. Eastern Time on Tuesday, February 3, 2009.

Docket Numbers: RP09-242-000.

Applicants: MarkWest New Mexico, L.L.C.

Description: Mark West New Mexico, LLC submits First Revised Sheet 136 et al. to FERC Gas Tariff, Second Revised Volume 1.

Filed Date: 01/22/2009.

Accession Number: 20090123-0335.

Comment Date: 5 p.m. Eastern Time on Tuesday, February 3, 2009.

Docket Numbers: RP09-243-000.

Applicants: Kinder Morgan Illinois Pipeline LLC.

Description: Kinder Morgan Illinois Pipeline LLC submits First Revised Sheet 167 et al. to its FERC Gas Tariff, Original Volume 1, to be effective 2/22/09.

Filed Date: 01/22/2009.

Accession Number: 20090123-0326.

Comment Date: 5 p.m. Eastern Time on Tuesday, February 3, 2009.

Docket Numbers: RP09-244-000.

Applicants: Vector Pipeline, L.P.

Description: Vector Pipeline, LP submits Fourth Revised Sheet 137 et al. to FERC Gas Tariff, Original Volume 1, proposed to be effective 2/21/09.

Filed Date: 01/22/2009.

Accession Number: 20090123-0325.

Comment Date: 5 p.m. Eastern Time on Tuesday, February 3, 2009.

Docket Numbers: RP09-245-000.

Applicants: Transcontinental Gas Pipe Line Company.

Description: Transcontinental Gas Pipe Line Company, LLC submits First Revised Sheet 114 et al. to its FERC Gas Tariff, Fourth Revised Volume 1, to be effective 2/22/09.

Filed Date: 01/22/2009.

Accession Number: 20090123-0324.

Comment Date: 5 p.m. Eastern Time on Tuesday, February 3, 2009.

Docket Numbers: RP09-246-000.

Applicants: Horizon Pipeline Company, L.L.C.

Description: Horizon Pipeline Company, LLC submit First Revised Sheet 159A et al. to FERC Gas Tariff, Original Volume 1 under.

Filed Date: 01/22/2009.

Accession Number: 20090123-0334.

Comment Date: 5 p.m. Eastern Time on Tuesday, February 3, 2009.

Docket Numbers: RP09-247-000.

Applicants: Trunkline LNG Company, LLC.

Description: Trunkline LNG Company, LLC submits Third Revised Sheet 23 et al. to FERC Gas Tariff, Second Revised Volume 1A.

Filed Date: 01/23/2009.

Accession Number: 20090126-0204.

Comment Date: 5 p.m. Eastern Time on Wednesday, February 4, 2009.

Docket Numbers: RP09-248-000.

Applicants: Southwest Gas Storage Company.

Description: Southwest Gas Storage Company submits Twenty Fifth Revised Sheet 5 et al. to FERC Gas Tariff, First Revised Volume 1.

Filed Date: 01/23/2009.

Accession Number: 20090126-0203.

Comment Date: 5 p.m. Eastern Time on Wednesday, February 4, 2009.

Docket Numbers: RP09-249-000.

Applicants: Sea Robin Pipeline Company, LLC.

Description: Sea Robin Pipeline Company, LLC submits Sixth Revised Sheet 5 et al. to FERC Gas Tariff, Second Revised Volume 1.

Filed Date: 01/23/2009.

Accession Number: 20090126-0202.

Comment Date: 5 p.m. Eastern Time on Wednesday, February 4, 2009.

Docket Numbers: RP09-250-000.

Applicants: Trunkline Gas Company, LLC.

Description: Trunkline Gas Company, LLC submits Nineteenth Revised Sheet 10 et al. to FERC Gas Tariff, Third Revised Volume 1, to be effective 2/23/09.

Filed Date: 01/23/2009.

Accession Number: 20090126-0201.

Comment Date: 5 p.m. Eastern Time on Wednesday, February 4, 2009.

Docket Numbers: RP09-251-000.

Applicants: Destin Pipeline Company, LLC.

Description: Destin Pipeline Company, LLC submits Fourth Revised Sheet 98 et al. to FERC Gas Tariff, Original Volume 1.

Filed Date: 01/23/2009.

Accession Number: 20090126-0211.

Comment Date: 5 p.m. Eastern Time on Wednesday, February 4, 2009.

Docket Numbers: RP09-252-000.

Applicants: Northern Natural Gas Company.

Description: Petition of Northern Natural Gas Company for a limited waiver of tariff provisions.

Filed Date: 01/23/2009.

Accession Number: 20090126-0210.

Comment Date: 5 p.m. Eastern Time on Wednesday, February 4, 2009.

Docket Numbers: RP09-253-000.

Applicants: Florida Gas Transmission Company, LLC.

Description: Florida Gas Transmission Company, LLC submits Appendix A to its FERC Gas Tariff, Fourth Revised Volume 1.

Filed Date: 01/23/2009.

Accession Number: 20090126-0209.

Comment Date: 5 p.m. Eastern Time on Wednesday, February 4, 2009.

Docket Numbers: RP09-254-000.

Applicants: Transwestern Pipeline Company, LLC.

Description: Transwestern Pipeline Company submits Fifth Revised Sheet 1 et al. of its FERC Gas Tariff, Third Revised Volume 1, to be effective 3/1/09.

Filed Date: 01/23/2009.

Accession Number: 20090126-0208.

Comment Date: 5 p.m. Eastern Time on Wednesday, February 4, 2009.

Docket Numbers: RP09-255-000.

Applicants: Guardian Pipeline, LLC.

Description: Guardian Pipeline, LLC submits Second Revised Sheet 181 et al. of its FERC Gas Tariff, Original Volume 1, to be effective 2/1/09.

Filed Date: 01/23/2009.

Accession Number: 20090126-0206.

Comment Date: 5 p.m. Eastern Time on Wednesday, February 4, 2009.

Docket Numbers: RP09-256-000.

Applicants: Panhandle Eastern Pipe Line Company, LP.

Description: Panhandle Eastern Pipe Line Company, LP submits Twenty-First Revised Sheet 4 et al. to its FERC Gas Tariff, Third Revised Volume 1, to be effective 2/2/09.

Filed Date: 01/23/2009.

Accession Number: 20090126-0207.

Comment Date: 5 p.m. Eastern Time on Wednesday, February 4, 2009.

Docket Numbers: RP09-257-000.

Applicants: Kinder Morgan Louisiana Pipeline LLC.

Description: Kinder Morgan Louisiana Pipeline LLC submits a Negotiated Rate Transportation Service Agreements with Chevron USA Inc et al., FERC Gas Tariff Original Volume 1, to be effective 3/1/09.

Filed Date: 01/23/2009.

Accession Number: 20090126-0311.

Comment Date: 5 p.m. Eastern Time on Wednesday, February 4, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-2151 Filed 1-30-09; 8:45 am]

BILLING CODE 6717-01-P